ENVIRONMENTAL PROTECTION AGENCY

40 CFR Parts 52 and 81

[EPA-R09-OAR-2016-0287; FRL-9957-63-Region 9]

Approval of Arizona Air Plan Revisions; Ajo and Morenci, Arizona; Second 10-Year Sulfur Dioxide Maintenance Plans and Technical Correction

AGENCY: Environmental Protection Agency (EPA).

ACTION: Proposed rule.

SUMMARY: The Environmental Protection Agency (EPA) is proposing to approve the second ten-year maintenance plans for the Ajo and Morenci areas in Arizona for the 1971 National Ambient Air Quality Standards (NAAQS) for sulfur dioxide (SO2), and to correct an error in the description of the Ajo, Arizona SO2 maintenance area in the Code of Federal Regulations.

DATES: Any comments on this proposal must arrive by February 8, 2017.

ADDRESSES: Submit your comments, identified by Docket ID No. EPA-R09-OAR-2016-0287 at http://www.regulations.gov, or via email to Wienke Tax, at tax.wienke@epa.gov. For comments submitted at Regulations.gov, follow the online instructions for submitting comments. Once submitted, comments cannot be removed or edited from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Wienke Tax, EPA Region IX, (415) 947-4192, tax.wienke@epa.gov.

SUPPLEMENTARY INFORMATION: Throughout this document, “we,” “us” and “our” refer to the EPA. This proposal addresses the second ten-year maintenance plans submitted by the Arizona Department of Environmental Quality to address the 1971 SO2 NAAQS in the Ajo and Morenci maintenance areas, AZ. In the Rules and Regulations section of this Federal Register, we are approving these second ten-year maintenance plans in a direct final action without prior proposal because we believe these SIP revisions are not controversial. If we receive adverse comments, however, we will publish a timely withdrawal of the direct final rule and address the comments in subsequent action based on this proposed rule. If we receive adverse comment on a distinct provision of this rulemaking, i.e., our action regarding only one maintenance plan, we will publish a timely withdrawal in the Federal Register indicating which provisions we are withdrawing. The provisions that are not withdrawn, i.e., our approval of the other maintenance plan that is not the subject of an adverse comment, will become effective on the date set out above, notwithstanding adverse comment on the other maintenance plan.

We do not plan to open a second comment period, so anyone interested in commenting should do so at this time. If we do not receive adverse comments, no further activity is planned. For further information, please see the direct final action.

Dated: December 15, 2016.
Alexis Strauss,
Acting Regional Administrator, Region IX.

[FR Doc. 2016-31636 Filed 1-6-17; 8:45 am]

BILLING CODE 6560-50-P